JUDICIAL CONFERENCE OF THE UNITED STATES

Advisory Committee on Appellate Rules; Meeting of the Judicial Conference

AGENCY: Judicial Conference of the United States.

ACTION: Notice of open meeting.

SUMMARY: The Advisory Committee on Appellate Rules will hold a meeting in a hybrid format with remote attendance options on October 19, 2023 in Washington, DC. The meeting is open to the public for observation but not participation. An agenda and supporting materials will be posted at least 7 days in advance of the meeting at: https://www.uscourts.gov/rules-policies/records-and-archives-rules-committees/agenda-books.

DATES: October 19, 2023.

FOR FURTHER INFORMATION CONTACT: H. Thomas Byron III, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

(Authority: 28 U.S.C. 2073.)

Dated: May 31, 2023.
Shelly L. Cox,
Management Analyst, Rules Committee Staff.

[FR Doc. 2023-11944 Filed 6-5-23; 8:45 am]

BILLING CODE 2210-55-P